DEPARTMENT OF THE INTERIOR

Fish and Wildlife Service

Hanford Reach National Monument Federal Advisory Committee; Meeting Notice

AGENCY: Fish and Wildlife Service, Interior.

ACTION: Notice; FACA meeting.

SUMMARY: The Hanford Reach National Monument Federal Advisory Committee will conduct a meeting on Tuesday, March 19, 2002 from 12:30 pm to 4:30 p.m. at the United Way of Benton and Franklin Counties, 401 North Young Street, Kennewick, WA. The meeting is open to the public and media.

DATES: Verbal comments will be considered during the course of the meeting and written comments will be accepted that are submitted by the close of the meeting.

ADDRESSES: Any member of the public wishing to submit written comments should send those to Mr. Greg Hughes, Designated Federal Officer for the Hanford Reach National Monument (HRNM) Federal Advisory Committee, Hanford Reach National Monument/Saddle Mountain National Wildlife Refuge, 3250 Port of Benton Blvd., Richland, WA 99352; fax (509) 375-0196. Copies of the draft meeting agenda can be obtained from the Designated Federal Officer.

FOR FURTHER INFORMATION CONTACT: Any member of the public wishing further information concerning the meeting should contact Mr. Greg Hughes, Designated Federal Official for the Hanford Reach National Monument (HRNM) FAC; phone (509) 371-1801, fax (509) 375-0196.

SUPPLEMENTARY INFORMATION: The Hanford Reach National Monument Federal Advisory Committee will review subcommittees formation, and consider examples of previous issues workbooks for the Comprehensive Conservation Plan. The Committee will break into subcommittee groups and begin preliminary discussions in those groups.

Dated: March 11, 2002.
Greg Hughes,
Project Leader, Hanford Reach National Monument.

[FR Doc. 02-6345 Filed 3-15-02; 8:45 am]

BILLING CODE 4310-55-P